DEPARTMENT OF TRANSPORTATION

Pipeline and Hazardous Materials Safety Administration

[Docket No. PHMSA-2025-0777; PDA-42(R)]

Hazardous Materials: Preemption Application From Exxon Mobil Corporation; Extension of Comment Period

AGENCY: Pipeline and Hazardous Materials Safety Administration (PHMSA), DOT.

ACTION: Notice, and extension of comment period.

SUMMARY: PHMSA is extending the period for comments on Exxon Mobil Corporation's application for an administrative determination as to whether the Federal hazardous material transportation law (HMTA) preempts certain state common law tort claims against it regarding the marking, employee training, loading and unloading, and hazardous material classification for gasoline transported by cargo tank motor vehicle.

DATES: The comment period for the Notice published January 9, 2026, at 91 FR 1032, is extended. Comments received on or before March 23, 2026 and rebuttal comments received on or before April 21, 2026, will be considered before an administrative determination is issued by PHMSA's Chief Counsel. Rebuttal comments may discuss only those issues raised by comments received during the initial comment period and may not discuss new issues.

ADDRESSES: All documents in this proceeding, including Exxon Mobil Corporation's application and all comments received, may be reviewed in the Docket Operations Facility (M-30), U.S. Department of Transportation, West Building Ground Floor, Room W12-140, 1200 New Jersey Avenue SE, Washington, DC 20590. All documents in this proceeding are also available on the U.S. Government Regulations.gov website: http://www.regulations.gov.

Comments must refer to Docket No. PHMSA-2025-0777 and may be submitted by any of the following methods:

• Federal eRulemaking Portal: Go to http://www.regulations.gov. Follow the online instructions for submitting comments.

• Fax: 1-202-493-2251.

• Mail: Docket Operations Facility (M-30), U.S. Department of Transportation, West Building Ground Floor, Room W12-140, 1200 New Jersey Avenue SE, Washington, DC 20590.

• Hand Delivery: Docket Operations Facility (M-30), U.S. Department of Transportation, West Building Ground Floor, Room W12-140, 1200 New Jersey Avenue SE, Washington, DC 20590, between 9:00 a.m. and 5:00 p.m., Monday through Friday, except Federal holidays.

Commenters must send a copy of their comment to the individuals listed below. Commenters must include a certification that a copy of the comment has been sent to these persons:

• Ilana H. Eisenstein, Counsel for Exxon Mobil Corporation, DLA Piper LLP, 1650 Market Street, Suite 5000, Philadelphia, PA 19103.

• The Honorable Bruce J. Kaplan, Civil Presiding Judge, Middlesex County Courthouse, 56 Paterson Street, New Brunswick, NJ 08901.

• Andrew J. Dupont, The Curtis Center, Suite 720 East, 601 Walnut Street, Philadelphia, PA 19106.

• Jeffrey Kluger, McGivney, Kluger, Clark & Intoccia, P.C., 290 W Mt. Pleasant Ave., Suite 4200, Livingston, NJ 07039.

Anyone is able to search the electronic form of all comments received into any of our dockets by the name of the individual submitting the comment (or signing a comment submitted on behalf of an association, business, labor union, etc.). You may review DOT's complete Privacy Act Statement in the Federal Register published on April 11, 2000 (65 FR 19477-78), or you may visit http://www.regulations.gov.

A subject matter index of hazardous materials preemption cases, including a listing of all inconsistency rulings and preemption determinations, is available through PHMSA's home page at http://phmsa.dot.gov. From the home page, click on “Regulations and Compliance,” then on “Standards & Rulemaking,” then on “Hazardous Materials Standards and Rulemaking,” then on “Preemption Determinations” located on the left side of the page. A paper copy of the index will be provided at no cost upon request to Mr. Doyle, at the address and telephone number set forth in the FOR FURTHER INFORMATION CONTACT section below.

FOR FURTHER INFORMATION CONTACT: Patrick Doyle, Office of Chief Counsel, Pipeline and Hazardous Materials Safety Administration, U.S. Department of Transportation, 1200 New Jersey Avenue SE, Washington, DC 20590; Telephone No. 202-366-4400; Facsimile No. 202-366-7041.

SUPPLEMENTARY INFORMATION: The Exxon Mobil Corporation (Exxon) has applied for an administrative determination as to whether the Federal hazardous material transportation law (HMTA) preempts certain state common law tort claims against it regarding the marking, employee training, loading and unloading, and hazardous material classification for gasoline transported by cargo tank motor vehicle (CTMV).¹ Exxon's application for a preemption determination originated from common law tort claims brought against it in a New Jersey state court by a former driver whose duties included driving a CTMV and filling it with gasoline at an Exxon facility. The tort claims focus on an assertion that the benzene in gasoline causes an unreasonably high risk of cancer for hazardous materials employees who transport it. The New Jersey state court denied the Defendants' motion for summary judgment on June 24, 2025, in which Exxon claimed the state common law tort claims are preempted by federal law. Exxon now asks PHMSA to consider questions similar to what it presented to the New Jersey state court. PHMSA published a notice of Exxon's application in the Federal Register on January 9, 2026 (91 FR 1032).² On January 30, 2026, the Offices of the Attorneys General of Rhode Island, New Jersey, Connecticut, Delaware, Maine, New York, and Nevada asked for an extension of time in which to file comments.

¹ The HMTA is codified at 49 U.S.C. 5101 et seq.

² https://www.federalregister.gov/documents/2026/01/09/2026-00231/hazardous-materials-notice-of-preemption-application-from-exxon-mobil-corporation-and-invitation-for.

After review of the Offices of the Attorneys General of Rhode Island, New Jersey, Connecticut, Delaware, Maine, New York, and Nevada's request, we have granted their request.

Issued in Washington, DC, on February 5, 2026.
Keith J. Coyle,
Chief Counsel.

[FR Doc. 2026-02574 Filed 2-9-26; 8:45 am]

BILLING CODE 4910-60-P